DEPARTMENT OF THE INTERIOR

National Park Service

[NPS-WASO-NAGPRA-17634; PPWOCRADN0-PCU00RP14.R50000]

Notice of Inventory Completion: U.S. Department of the Interior, Bureau of Reclamation, Columbia-Cascades Area Office, Yakima, WA

AGENCY: National Park Service, Interior.

ACTION: Notice.

SUMMARY: The U.S. Department of the Interior, Bureau of Reclamation (Reclamation), Columbia-Cascades Area Office, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Reclamation, Columbia-Cascades Area Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Reclamation, Columbia-Cascades Area Office at the address in this notice by April 15, 2015.

ADDRESSES: Warren Hurley, Archeologist, Columbia-Cascades Area Office, Bureau of Reclamation, 1917 Marsh Road, Yakima, WA 98901-2052, telephone (509) 575-5848 ext. 320.

SUPPLEMENTARY INFORMATION: Notice is here given in accordance with the Native American Graves Protection and Repatriation Act (NAGPRA), 25 U.S.C. 3003, of the completion of an inventory of human remains under the control of the U.S. Department of the Interior, Bureau of Reclamation, Columbia-Cascades Area Office, Yakima, WA, and in the physical custody of the University of Oregon Museum of Cultural and Natural History (formerly the Oregon State Museum of Anthropology (OSMA)). The human remains were removed from lands managed by Reclamation in Jackson County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Reclamation, Columbia-Cascades Area Office and OSMA professional staff in consultation with representatives of the Confederated Tribes of Siletz Indians of Oregon (previously listed as the Confederated Tribes of the Siletz Reservation) and the Confederated Tribes of the Grand Ronde Community of Oregon.

History and Description of the Remains

In 1958, fragmentary human remains representing, at minimum, one individual were recovered from site 35JA01 in Jackson County, OR. This discovery resulted from archeological investigations conducted by the University of Oregon's Department of Anthropology, under contract to the National Park Service and funded by the Bureau of Reclamation, in association with construction of Emigrant Dam and Reservoir. Site 35JA01 is located on a broad alluvial terrace that extends northward from the east bank of the now inundated Emigrant Creek, approximately 1.8 miles upstream (southeast of) from Emigrant Dam in Jackson County, OR. The site is situated on Federal lands under Reclamation's jurisdiction. The archeological site, described in 1958 as a “camp site” and on a 1970 site form as a “midden,” was subject to test excavations shortly after discovery. The human remains include two human bone fragments (identified as a condyle and part of the ascending ramus of the right side of a mandible, and a parietal fragment). Both human bone fragments were reported to be from an area of the site that had been disturbed by relic collectors, and both were described as being from an adult, although no mention is made of the minimum number of individuals represented by the remains. No known individuals were identified. The site was dated, based on the presence of the trade bead and temporally diagnostic projectile points, as late Archaic/Contact period (600-150 yr. BP).

The recovered archeological materials, including the human remains, were sent to OSMA in Eugene, OR. During the years since recovery, the human remains from 35JA01 have remained in storage as components of Reclamation's archeological collection housed and maintained at OSMA. In 1995, while completing NAGPRA inventories, OSMA staff identified a third human bone—a lower lumbar vertebra fragment found in a bag of faunal bone—collected from site 35JA01 in 1958. The additional bone fragment was reported to Reclamation in 1996 and appended to the collection summary/artifact catalog that is maintained by both OSMA and Reclamation. No associated funerary items were identified from the materials recovered from site 35JA01.

Association of the materials with a prehistoric archeological site indicates that the human remains described are Native American. The geographic location of the site is within the Bear Creek Valley, the southern arm of the larger Rogue River Valley of southwestern Oregon, and within the southwestern corner of the Northwest Coast Culture Area. Ethnographic and ethnohistoric evidence and archeological data indicate that site 35JA01 lies within an area occupied, at the time of contact, by the Bear Creek Shasta and Upland Takelma bands. Tribal/band members were removed from the Rogue River Valley to the Grand Ronde and Coast/Siletz Indian Reservations beginning in 1855—not long after initial settlement of the Rogue River Valley by Anglo Americans.

In 2010, Reclamation commissioned a study to determine the cultural affiliation of the heretofore unaffiliated remains. This study concluded that, based on the preponderance of the evidence, the human remains from site 35JA01 are most closely affiliated with the Bear Creek Shasta, a Native American group who resided in the southwest Oregon at and prior to Euro-American contact. Descendants of both Native American groups are legally represented by the Confederated Tribes of Siletz Indians of Oregon (previously listed as the Confederated Tribes of the Siletz Reservation) and the Confederated Tribes of the Grand Ronde Community of Oregon.

Determinations Made by Reclamation, Columbia-Cascades Area Office

Officials of Reclamation, Columbia-Cascades Area Office have determined that:

• Pursuant to 25 U.S.C. 3001(9), the human remains described in this notice represent the physical remains of at least one individual of Native American ancestry.

• Pursuant to 25 U.S.C. 3001(2), there is a relationship of shared group identity that can be reasonably traced between the Native American human remains and the Confederated Tribes of Siletz Indians of Oregon (previously listed as the Confederated Tribes of the Siletz Reservation) and the Confederated Tribes of the Grand Ronde Community of Oregon.

Additional Requestors and Disposition

Lineal descendants or representatives of any Indian tribe or Native Hawaiian organization not identified in this notice that wish to request transfer of control of these human remains should submit a written request with information in support of the request to Warren Hurley, Archeologist, Columbia-Cascades Area Office, Bureau of Reclamation, 1917 Marsh Road, Yakima, WA 98901-2052, telephone (509) 575-5848 ext. 320, by April 15, 2015. After that date, if no additional requestors have come forward, transfer of control of the human remains to the Confederated Tribes of Siletz Indians of Oregon (previously listed as the Confederated Tribes of the Siletz Reservation) and the Confederated Tribes of the Grand Ronde Community of Oregon may proceed.

Reclamation, Columbia-Cascades Area Office is responsible for notifying the Confederated Tribes of Siletz Indians of Oregon (previously listed as the Confederated Tribes of the Siletz Reservation) and the Confederated Tribes of the Grand Ronde Community of Oregon that this notice has been published.

Dated: February 4, 2015.
Melanie O'Brien,
Acting Manager, National NAGPRA Program.

[FR Doc. 2015-05997 Filed 3-13-15; 8:45 am]

BILLING CODE 4312-50-P